FEDERAL RESERVE SYSTEM

12 CFR Part 202

[Regulation B; Docket No. R-1295]

Equal Credit Opportunity

AGENCY: Board of Governors of the Federal Reserve System.

ACTION: Final Rule; Conforming references.

SUMMARY: The Board is publishing amendments to Regulation B (Equal Credit Opportunity Act) to update the address where questions should be directed concerning creditors for which the Federal Reserve System administers compliance with the regulation.

DATES: Effective Date: October 29, 2007. Compliance is optional until October 1, 2008.

FOR FURTHER INFORMATION CONTACT: Yvonne Cooper, Manager, Consumer Complaints, Division of Consumer and Community Affairs, Board of Governors of the Federal Reserve System, at (202) 452-3946. For the users of Telecommunications Device for the Deaf (“TDD”) only, contact (202) 263-4869.

SUPPLEMENTARY INFORMATION: The Equal Credit Opportunity Act (ECOA), 15 U.S.C. 1691-1691f, makes it unlawful for a creditor to discriminate against an applicant in any aspect of a credit transaction on the basis of the applicant's national origin, marital status, religion, sex, color, race, age (provided the applicant has the capacity to contract), receipt of public assistance benefits, or the good faith exercise of a right under the Consumer Credit Protection Act, 15 U.S.C. 1601 et seq. The ECOA is implemented by the Board's Regulation B.

In addition to the general prohibition against discrimination, Regulation B contains specific rules concerning the taking and evaluation of credit applications, including procedures and notices for credit denials and other adverse action. Under section 202.9 of Regulation B, notification given to an applicant when adverse action is taken must contain the name and address of the federal agency that administers compliance with respect to the creditor. Appendix A of Regulation B contains the names and addresses of the enforcement agencies where questions concerning a particular creditor shall be directed. The Board is establishing a centralized address and telephone number for receiving inquiries about creditors for which the Board enforces Regulation B. This amendment updates the address in Appendix A to reflect this change. Creditors have until October 1, 2008, the mandatory compliance date, to include the new address and telephone number on their adverse action notices.

12 CFR Chapter II

List of Subjects in 12 CFR Part 202

Aged, Banks, Banking, Civil rights, Consumer protections, Credit, Discrimination, Federal Reserve System, Marital status discrimination, Penalties, Religious discrimination, Sex discrimination.

Authority and Issuance

For the reasons set forth in the preamble, the Board amends 12 CFR part 202 to read as follows:

PART 202—EQUAL CREDIT OPPORTUNITY ACT (REGULATION B)

1. The authority citation for part 202 continues to read as follows:

Authority: Section 15 U.S.C. 1691-1691f.

2. Appendix A is amended by revising the following Federal Enforcement Agency address to read as follows:

Appendix A to Part 202—Federal Enforcement Agencies

* * * * *

State member banks, branches and agencies of foreign banks (other than federal branches, federal agencies, and insured state branches of foreign banks), commercial lending companies owned or controlled by foreign banks, and organizations operating under section 25 or 25A of the Federal Reserve Act: Federal Reserve Consumer Help Center, P.O. Box 1200, Minneapolis, MN 55480, toll-free number: (888) 851-1920, fax number: (877) 888-2520, TDD number: (877) 766-8533.

* * * * *

By order of the Board of Governors of the Federal Reserve System, acting through the Secretary of the Board under delegated authority, September 24, 2007.
Jennifer J. Johnson,
Secretary of the Board.

[FR Doc. E7-19136 Filed 9-27-07; 8:45 am]

BILLING CODE 6210-01-P